DEPARTMENT OF VETERANS AFFAIRS

Veteran's Disability Benefits Commission; Notice of Meeting

The Department of Veterans Affairs (VA) gives notice under Pub. L. 92-463 (Federal Advisory Committee Act) that the Veterans' Disability Benefits Commission has scheduled a meeting on June 9, 2005, at the Shriners Almas Temple (adjacent to the Hamilton Crowne Plaza Hotel), 1315 K Street, NW., Washington, DC 20005. The meeting will convene at 8:30 a.m. and conclude at 3 p.m. and is open to the public.

The purpose of the Commission is to carry out a study of the benefits under the laws of the United States that are provided to compensate and assist veterans and their survivors for disabilities and deaths attributable to military service.

The agenda for June 9 includes descriptions of veteran, military, and survivor populations receiving benefits, studies undertaken by the VA Office of Inspector General, and a briefing on the issue of concurrent receipt of benefits.

Interested persons may attend and present oral statements to the Commission. Interested parties may provide written comments for review by the Commission at any time to Mr. Ray Wilburn, Executive Director, Program Evaluation Service (008B2), Department of Veterans Affairs, 810 Vermont Avenue, NW., Washington, DC 20420 or by e-mail at vetscommission@va.gov.

Dated: May 20, 2005.
E. Philip Riggin,
Committee Management Officer.

[FR Doc. 05-10463 Filed 5-24-05; 8:45 am]

BILLING CODE 8320-01-M